SECURITIES AND EXCHANGE COMMISSION

Issuer Delisting; Notice of Application To Withdraw From Listing and Registration; (NYFIX, Inc., Common Stock, Par Value $.001 per Share) File No. 1-12292

March 10, 2000.

NYFIX, Inc. (“Company”), has filed an application with the Securities and Exchange Commission (“Commission”), pursuant to Section 12(d) of the Securities Exchange Act of 1934 (“Act”) ¹ and Rule 12d2-2(d ² thereunder, to withdraw the security described above (“Security”) from listing and registration on the American Stock Exchange LLC (“Amex”).

¹15 U.S.C. 78l(d).

² 17 CFR 240.12d2-2(d).

The Security has been listed and registered on the Amex pursuant to Section 12(b) ³ of the Act. On March 3, 2000, the Company Filed a Registration State on Form 8-A with the Commission pursuant to Section 12(g) of the Act,⁴ and on March 6, 2000, the Security became designated for quotation and began trading as a National Market Security on the Nasdaq Stock Market, Inc. (“Nasdaq”). The Company believes it will be able to achieve better exposure and a more liquid market for its Security on the Nasdaq.

³ 15 U.S.C. 78l(b).

⁴ 15 U.S.C. 78l(g).

The Company has stated that it has complied with the Rules of the Amex governing the withdrawal of its Security from listing and registration on the Amex and that the Amex in turn has indicated that it will not oppose such withdrawal.

The Company's application relates solely to the withdrawal of the Security from listing and registration on the Amex and shall have no effect upon the Security's continued designation for quotation and trading on the Nasdaq. By reason of Section 12(g) of the Act ⁵ and the rules and regulations of the Commission thereunder, the Company shall continue to be obligated to file reports with the Commission required by Section 13 of the Act.⁶

⁵ Id.

⁶ 15 U.S.C. 78m.

Any interested person may, on or before March 31, 2000, submit by letter to the Secretary of the Securities and Exchange Commission, 450 Fifth Street, N.W., Washington, D.C. 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁷
⁷ 17 CFR 200.30-3(a)(1).
Jonathan G. Katz,
Secretary.

[FR Doc. 00-6606 Filed 3-16-00; 8:45 am]

BILLING CODE 8010-01-M